DEPARTMENT OF LABOR

Employment and Training Administration

[TA-W-40,529]

L-S Electro-Galvanizing Co., Cleveland, OH; Notice of Revised Determination on Reconsideration

By letter of May 23, 2002, the company requested administrative reconsideration regarding the Department's Negative Determination Regarding Eligibility to Apply for Worker Adjustment Assistance, applicable to the workers of the subject firm.

The initial investigation resulted in a negative determination issued on April 22, 2002 based on the finding that imports of corrosion-resistant zinc coated cold rolled steel coils did not contribute importantly to worker separations at the Cleveland plant. The denial notice was published in the Federal Register on May 2, 2002 (67 FR 22112).

To support the request for reconsideration, the company official provided clarification concerning the relationship between the subject firm and their sole customer. The company official indicated that their sole customer was a majority owner (Joint Venture) of L-S Electro-Galvanizing Company (LSE), Cleveland, Ohio and that the subject firm was in direct support of that operation. The subject firm applied a corrosion-resistant zinc coating on cold rolled steel coil substrate produced by the customer. The official further indicates that the closure of the customer facility at the same location as the subject firm is the reason for the closure of the subject plant. The company official further indicated that the sole customer was certified for TAA under TA-W-38,362.

Clarification by the company and review of the initial investigation show that the subject firm was in direct support of a TAA certified facility (TA-W-38,362, LTV Steel Company, Inc., Cleveland, Ohio) that had a majority controlling interest in the subject firm's operation. Since the workers of the subject firm were in direct support of the affiliated TAA certified facility, they meet all eligibility requirements of the Trade Act of 1974, as amended.

Conclusion

After careful review of the additional facts obtained on reconsideration, I conclude that increased imports of articles like or directly competitive with those produced at L-S Electro-Galvanizing Company, Cleveland, Ohio, contributed importantly to the declines in sales or production and to the total or partial separation of workers at the subject firm. In accordance with the provisions of the Act, I make the following certification:

All workers of L-S Electro-Galvanizing Company, Cleveland, Ohio, who became totally or partially separated from employment on or after December 3, 2000 through two years from the date of this certification, are eligible to apply for adjustment assistance under Section 223 of the Trade Act of 1974.

Signed in Washington, DC this 20th day of June 2002.
Edward A. Tomchick,
Director, Division of Trade Adjustment Assistance.

[FR Doc. 02-17144 Filed 7-8-02; 8:45 am]

BILLING CODE 4510-30-P